FEDERAL COMMUNICATIONS COMMISSION

Radio Broadcasting Services; AM or FM Proposals To Change the Community of License

AGENCY: Federal Communications Commission.

ACTION: Notice.

SUMMARY: The following applicants filed AM or FM proposals to change the community of license: Actualidad 1040AM Licensee, LLC, Station WLVJ, Facility ID 4341, BP-20150706ACT, From Boynton Beach, FL, To Miami, FL; Actualidad 990AM Licensee, LLC, Station WMYM, Facility ID 12833, BP-20150706ACS, From Miami, FL, To Kendall, FL; Actualidad Licensee 1020AM, LLC, Station WURN, Facility ID 3607, BP- 20150706ACU, From Kendall, FL, To Boynton Beach, FL; Alpha Media Licensee, LLC, Station NEW, Facility ID 198622, BNPH-20151013AIK, From Longview, TX, To Atlanta, TX; Costa-Eagle Radio Ventures Limited Partnership, Station WMVX, Facility ID 22798, BP-20151119AYB, From Beverly, MA, To Methuen, MA; EDB VV License, LLC, Station KXFM, Facility ID 5470, BPH-20151110ANR, From Santa Maria, CA, To Montecito, CA; Educational Media Foundation, Station NEW, Facility ID 198724, BNPH-20151013AGJ, From Baggs, WY, To Yampa, CO; Jackman Holding Company, LLC, Station NEW, Facility ID 198745, BNPH-20151013ADJ, From Moro, OR, To White Salmon, WA; Katherine Pyeatt, Station NEW, Facility ID 190004, BNPH-20111013ACU, From Midway, TX, To Groveton, TX; Northeast Colorado Broadcasting, LLC, Station NEW, Facility ID 198758, BNPH-20151013ADX, From Akron, CO, To Eckley, CO; Northway Broadcasting, Station NEW, Facility ID 190452, BNPH-20120530AOI, From Silver Springs, NV, To Fallon, NV; Summit Broadcasting II, LLC, Station NEW, Facility ID 198794, BNPH-20151013AAM, From McCall, ID, To Silver City, ID.

DATES: The agency must receive comments on or before February 8, 2016.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2015-30912 Filed 12-7-15; 8:45 am]

BILLING CODE 6712-01-P